OFFICE OF PERSONNEL MANAGEMENT

Excepted Service

AGENCY: Office of Personnel Management (OPM).

ACTION: Notice.

SUMMARY: This gives notice of OPM decisions granting authority to make appointments under Schedules A, B, and C in the excepted service as required by 5 CFR 6.6 and 213.103.

FOR FURTHER INFORMATION CONTACT: David Guilford, Center for Leadership and Executive Resources Policy, Division for Strategic Human Resources Policy, 202-606-1391.

SUPPLEMENTARY INFORMATION: Appearing in the listing below are the individual authorities established under Schedules A, B, and C between August 1, 2006, and August 31, 2006. Future notices will be published on the fourth Tuesday of each month, or as soon as possible thereafter. A consolidated listing of all authorities as of June 30 is published each year.

Schedule A: No Schedule A appointments were approved for August 2006.

Schedule B: No Schedule B appointments were approved for August 2006.

Schedule C: The following Schedule C appointments were approved during August 2006:

Section 213.3303 Executive Office of the President

Council on Environmental Quality

EQGS60021 Special Assistant to the Chairman (Council on Environmental Quality). Effective August 01, 2006.

Office of Management and Budget

BOGS60026 Confidential Assistant to the Associate Director for General Government Programs. Effective August 11, 2006.

BOGS00039 Legislative Analyst to the Associate Director for Legislative Affairs. Effective August 16, 2006.

BOGS60035 Confidential Assistant to the Counselor to the Deputy Director for Management. Effective August 16, 2006.

BOGS70000 Confidential Assistant to the Deputy Director, Office of Management and Budget. Effective August 24, 2006.

BOGS70001 Associate General Counsel to the General Counsel and Senior Policy Advisor. Effective August 24, 2006.

Office of National Drug Control Policy

QQGS60096 Deputy Chief of Staff to the Chief of Staff. Effective August 02, 2006.

QQGS60097 Public Affairs Specialist to the Counselor to the Deputy Director. Effective August 22, 2006.

Office of the United States Trade Representative

TNGS60023 Public Affairs Specialist to the Assistant United States Trade Representative for Public and Media Affairs. Effective August 01, 2006.

TNGS60024 Director of Scheduling and Advance to the United States Trade Representative. Effective August 09, 2006.

Section 213.3304 Department of State

DSGS61108 Special Assistant to the Under Secretary for Global Affairs. Effective August 04, 2006.

DSGS61110 Special Assistant to the Assistant Secretary for East Asian and Pacific Affairs. Effective August 04, 2006.

DSGS61111 Legislative Management Officer to the Assistant Secretary for Legislative and Intergovernmental Affairs. Effective August 04, 2006.

DSGS61112 Senior Advisor to the Assistant Secretary for International Organizational Affairs. Effective August 16, 2006.

DSGS60734 Public Affairs Specialist to the Assistant Secretary for Public Affairs. Effective August 22, 2006.

DSGS61113 Special Assistant to the Assistant Secretary, Bureau of Educational and Cultural Affairs. Effective August 29, 2006.

Section 213.3305 Department of the Treasury

DYGS60421 Special Assistant to the Deputy Assistant Secretary for Legislative Affairs. Effective August 16, 2006.

DYGS00356 Director, Critical Infrastructure Protection and Compliance Policy to the Deputy Assistant Secretary (Critical Infrastructure Protection and Compliance Policy). Effective August 17, 2006.

DYGS00476 Director of Operations to the Chief of Staff. Effective August 25, 2006.

DYGS00380 Deputy to the Assistant Secretary (Legislative Affairs) to the Assistant Secretary (Deputy Under Secretary) for Legislative Affairs. Effective August 29, 2006.

DYGS00475 Policy Advisor to the Assistant Secretary (Terrorist Financing). Effective August 29, 2006.

Section 213.3306 Department of Defense

DDGS16962 Speechwriter to the Principal Deputy Assistant Secretary of Defense for Public Affairs. Effective August 02, 2006.

DDGS16953 Defense Fellow to the Special Assistant to the Secretary of Defense for White House Liaison. Effective August 08, 2006.

DDGS16959 Special Assistant to the Principal Deputy Assistant Secretary of Defense (Legal Affairs). Effective August 08, 2006.

DDGS16966 Defense Fellow to the Special Assistant to the Secretary of Defense for White House Liaison. Effective August 08, 2006.

DDGS16970 Special Assistant to the Principal Deputy Assistant Secretary of Defense (Legal Affairs). Effective August 08, 2006.

DDGS16956 Personal and Confidential Assistant to the Assistant Secretary of Defense (Special Operations/Low Intensity Conflict). Effective August 10, 2006.

DDGS16965 Defense Fellow to the Special Assistant to the Secretary of Defense for White House Liaison. Effective August 16, 2006.

DDGS16978 Staff Assistant to the Deputy Assistant Secretary of Defense (Detainee Affairs). Effective August 24, 2006.

DDGS16980 Personal and Confidential Assistant to the Assistant Secretary of Defense (International Security Policy). Effective August 24, 2006.

DDGS16982 Staff Specialist to the Deputy Assistant Secretary of Defense for Strategy, Plans and Resources. Effective August 24, 2006.

DDGS16945 Defense Fellow to the Special Assistant to the Secretary of Defense for White House Liaison. Effective August 29, 2006.

DDGS16971 Staff Assistant to the Deputy Assistant Secretary of Defense (Detainee Affairs). Effective August 31, 2006.

Section 213.3307 Department of the Army

DWGS60016 Confidential Assistant to the Secretary of the Army. Effective August 14, 2006.

Section 213.3309 Department of the Air Force

DFGS60018 Director, Marketing and Special Events to the Secretary of the Air Force. Effective August 02, 2006.

DFGS60011 Personal and Confidential Assistant to the General Counsel. Effective August 29, 2006.

Section 213.3310 Department of Justice

DJGS00261 Senior Counsel to the Assistant Attorney General. Effective August 01, 2006.

DJGS00062 Chief of Staff to the Administrator of Juvenile Justice and Delinquency Prevention. Effective August 08, 2006.

DJGS00231 Counsel to the Associate Attorney General. Effective August 08, 2006.

DJGS00200 Senior Counsel to the Assistant Attorney General, Criminal Division. Effective August 16, 2006.

DJGS00085 Speech Writer to the Director, Office of Public Affairs. Effective August 29, 2006.

Section 213.3311 Department of Homeland Security

DMGS00546 Coordinator of State and Local Affairs to the Chief of Staff. Effective August 01, 2006.

DMGS00555 Special Assistant and Travel Aide to the Under Secretary for Federal Emergency Management. Effective August 02, 2006.

DMGS00557 Public Affairs Specialist to the Deputy Assistant Secretary for Public Affairs. Effective August 04, 2006.

DMGS00553 Director of Policy and Plans, Customs and Border Protection to the Commissioner, Customs and Border Protection. Effective August 08, 2006.

DMGS00559 Assistant Press Secretary to the Deputy Assistant Secretary for Public Affairs. Effective August 08, 2006.

DMGS00556 Deputy Chief of Staff to the Director of Information Integration and Special Assistant to the Secretary. Effective August 09, 2006.

DMGS00558 Special Assistant to the Chief Privacy Officer. Effective August 09, 2006.

DMGS00560 Associate Director of Communications for Intelligence and Analysis to the Deputy Assistant Secretary for Public Affairs. Effective August 15, 2006.

DMGS00562 Assistant Executive Secretary to the Executive Secretary. Effective August 15, 2006.

DMGS00561 Assistant Director of Communications to the Director of Communications for United States Citizenship and Immigration Services. Effective August 18, 2006.

DMGS00563 Assistant Press Secretary to the Press Secretary. Effective August 18, 2006.

DMGS00566 Executive Assistant to the Director, Office of Systems Engineering and Acquisition. Effective August 22, 2006.

DMGS00564 Staff Assistant to the White House Liaison and Advisor. Effective August 24, 2006.

DMGS00568 Senior Media Affairs and Communication Specialist to the Chief of Staff. Effective August 24, 2006.

Section 213.3312 Department of the Interior

DIGS01076 Special Assistant to the Deputy Chief of Staff. Effective August 04, 2006.

DIGS01077 Special Assistant to the Deputy Solicitor. Effective August 29, 2006.

Section 213.3313 Department of Agriculture

DAGS00857 Special Assistant to the Administrator, Farm Service Agency. Effective August 01, 2006.

DAGS00859 Deputy Director of Intergovernmental Affairs to the Director, Intergovernmental Affairs. Effective August 18, 2006.

DAGS00855 Special Assistant to the Deputy Administrator for Field Operations. Effective August 21, 2006.

Section 213.3314 Department of Commerce

DCGS00184 Confidential Assistant to the Assistant Secretary for Telecommunications and Information. Effective August 04, 2006.

DCGS60512 Senior Advisor to the Under Secretary of Commerce for Industry and Security. Effective August 04, 2006.

DCGS60160 Confidential Assistant to the Director, Advocacy Center. Effective August 16, 2006.

DCGS00427 Senior Advisor to the Assistant Secretary for Export Enforcement. Effective August 29, 2006.

DCGS60651 Public Affairs Specialist to the Director of Public Affairs. Effective August 29, 2006.

Section 213.3315 Department of Labor

DLGS60236 Legislative Officer to the Assistant Secretary for Congressional and Intergovernmental Affairs. Effective August 01, 2006.

DLGS60238 Legislative Assistant to the Assistant Secretary for Congressional and Intergovernmental Affairs. Effective August 14, 2006.

DLGS60015 Legislative Assistant to the Assistant Secretary for Congressional and Intergovernmental Affairs. Effective August 15, 2006.

DLGS60007 Special Assistant to the Director, 21st Century Office and Deputy Assistant Secretary for Intergovernmental Affairs. Effective August 18, 2006.

DLGS60168 Senior Intergovernmental Affairs Officer to the Assistant Secretary for Congressional and Intergovernmental Affairs. Effective August 24, 2006.

DLGS60189 Special Assistant to the Chief Financial Officer. Effective August 29, 2006.

Section 213.3316 Department of Health and Human Services

DHGS60526 Confidential Assistant to the Deputy Secretary, Health and Human Services. Effective August 16, 2006.

DHGS60038 Special Assistant to the Senior Advisor to the Assistant Secretary for Health. Effective August 29, 2006.

Section 213.3317 Department of Education

DBGS00557 Special Assistant to the Director, White House Initiative on Hispanic Education. Effective August 11, 2006.

DBGS00558 Confidential Assistant to the Assistant Secretary for Elementary and Secondary Education. Effective August 14, 2006.

DBGS00355 Confidential Assistant to the Chief of Staff to the Deputy Secretary. Effective August 17, 2006.

DBGS00561 Deputy Assistant Secretary for Policy and Strategic Initiatives to the Assistant Secretary for Elementary and Secondary Education. Effective August 22, 2006.

DBGS00562 Confidential Assistant to the Deputy Assistant Secretary for Communications and Outreach. Effective August 22, 2006.

DBGS00563 Confidential Assistant to the Assistant Secretary for Elementary and Secondary Education. Effective August 24, 2006.

DBGS00559 Special Assistant to the Secretary's Regional Representative, Region 8. Effective August 29, 2006.

DBGS00560 Chief of Staff to the Assistant Secretary for Planning, Evaluation, and Policy Development. Effective August 29, 2006.

DBGS00564 Special Assistant to the Deputy Assistant Secretary for Media Relations and Strategic Communications. Effective August 29, 2006.

Section 213.3318 Environmental Protection Agency

EPGS06021 Assistant to the Scheduler to the Director of Scheduling. Effective August 01, 2006.

EPGS05024 Deputy Associate Administrator to the Associate Administrator for Public Affairs. Effective August 29, 2006.

Section 213.3325 United States Tax Court

JCGS60042 Secretary (Confidential Assistant) to the Chief Judge. Effective August 17, 2006.

Section 213.3330 Securities and Exchange Commission

SEOT60052 Chief of Staff to the Chairman. Effective August 02, 2006.

SEOT60053 Managing Executive for Policy and Counselor to the Chairman. Effective August 02, 2006.

Section 213.3331 Department of Energy

DEGS00534 Senior Advisor to the Chief of Staff. Effective August 01, 2006.

DEGS00535 Web Content Manager to the Senior Policy Advisor. Effective August 02, 2006.

DEGS00536 Policy Advisor to the Senior Advisor. Effective August 15, 2006.

DEGS00537 Program Assistant to the Assistant Secretary of Energy (Nuclear Energy). Effective August 18, 2006.

DEGS00539 Deputy Director for Permitting, Siting and Analysis Division to the Director, Office of Electricity Delivery and Energy Reliability. Effective August 22, 2006.

DEGS00540 Special Assistant to the Director, Office of Electricity Delivery and Energy Reliability. Effective August 29, 2006.

DEGS00541 Director of Commercialization and Deployment to the Principal Deputy Assistant Secretary. Effective August 29, 2006.

Section 213.3331 Federal Energy Regulatory Commission

DRGS60007 Confidential Assistant to the Member-Federal Energy Regulatory Commission. Effective August 24, 2006.

Section 213.3332 Small Business Administration

SBGS00600 Director of External Affairs to the Associate Administrator for Field Operations. Effective August 02, 2006.

SBGS00602 Special Assistant to the Administrator. Effective August 04, 2006.

Section 213.3337 General Services Administration

GSGS00178 Special Assistant to the Chief Acquisition Officer. Effective August 08, 2006.

GSGS00180 Confidential Assistant to the Associate Administrator for Congressional and Intergovernmental Affairs. Effective August 18, 2006.

GSGS00156 Confidential Assistant to the Chief of Staff. Effective August 29, 2006.

Section 213.3373 Trade and Development Agency

TDGS60001 Executive Assistant to the Director. Effective August 29, 2006.

Section 213.3377 Equal Employment Opportunity Commission

EEGS60032 Senior Advisor to the Member, Equal Employment Opportunity Commission. Effective August 30, 2006.

Section 213.3384 Department of Housing and Urban Development

DUGS60449 Congressional Relations Specialist to the Deputy Assistant Secretary for Congressional Relations. Effective August 30, 2006.

Section 213.3394 Department of Transportation

DTGS60194 Special Assistant to the Administrator. Effective August 01, 2006.

DTGS60371 Deputy Assistant Secretary for Governmental Affairs to the Assistant Secretary for Governmental Affairs. Effective August 17, 2006.

DTGS60382 Special Assistant to the Secretary and Deputy Director for Scheduling and Advance to the Secretary. Effective August 17, 2006.

DTGS60202 Counselor to the Administrator. Effective August 31, 2006.

Authority: 5 U.S.C. 3301 and 3302; E.O. 10577, 3 CFR 1954-1958 Comp., p. 218.

Office of Personnel Management.
Dan G. Blair,
Deputy Director.

[FR Doc. E6-16593 Filed 10-5-06; 8:45 am]

BILLING CODE 6325-39-P